DEPARTMENT OF ENERGY

Federal Energy Regulatory Commission

[Docket No. RP00-283-000]

Questar Pipeline Company; Notice of Tariff Filing

May 16, 2000.

Take notice that on May 12, 2000, Questar Pipeline Company (Questar) tendered for filing as part of its FERC Gas Tariff, Third Revised Sheet No. 117, First Revised Volume No. 1, to be effective June 12, 2000.

Questar pursuant to prior Commission authority, provides underground natural-gas storage service at three aquifer storage reservoirs, Leroy, Coalville and Chalk Creek. Questar's currently effective tariff requires that working gas from these reservoirs be withdrawn to the extent practicable at the conclusion of the withdrawal period, beginning no later than March 1 of each year, and allows reinjection late in the fall.

Questar's only storage customer utilizing the aquifer reservoirs, Questar Gas Company (QGC), requested that it be allowed, but not required to, leave working gas in both the Leroy and Coalville storage aquifers during the summer months. Upon Questar's and QGC's joint engineering analysis, the parties ascertained that leaving approximately 50 percent of the working gas in place at two of its storage reservoirs, Leroy and Coalville and allowing QGC to inject and withdraw working gas between the end of the withdrawal period and beginning of the injection period, may be beneficial for QGC. Injecting and withdrawing natural gas in and out of these two reservoirs year round, improves reservoir performance and provides QGC with more accommodation and flexible storage service. Questar Pipeline has determined that making the change requested by QGC will not adversely affect the storage reservoirs' operations. Further, since QGC is the only customer using these storage reservoirs, this change will not affect other customers. Therefore, in response to QGC's request, Questar proposed modifications to its tariff that it believes will allow for more efficient and productive usage of the Leroy and Coalville storage reservoirs.

Questar states that a copy of this filing has been served upon Questar's customers, the Public Service Commission of Utah and the Public Service Commission of Wyoming.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-12724 Filed 5-19-00; 8:45 am]

BILLING CODE 6717-01-M